FEDERAL HOUSING FINANCE AGENCY

[No. 2025-N-5]

Privacy Act of 1974; System of Records

AGENCY: Federal Housing Finance Agency.

ACTION: Rescindment of a system of records notice.

SUMMARY: In accordance with the requirements of the Privacy Act of 1974, as amended, (Privacy Act), and Office of Management Budget (OMB) Circular No. A-108, “Federal Agency Responsibilities for Review, Reporting, and Publication under the Privacy Act,” the Federal Housing Finance Agency (FHFA or Agency) proposes to rescind an existing System of Records Notice (SORN). The SORN being rescinded is based on a third-party operated system of records that is no longer maintained by the Agency and has been decommissioned. FHFA-25, Applicant Tracking System was used by FHFA to post and publicize mission critical occupation job openings using FHFA's authority to hire examiners, accountants, economists, and specialists in financial markets and in technology; receive, store, and process resumes, applications, curriculum vitaes, and similar documents received in response to mission critical occupation job openings and recruiting and outreach events; and track applicants for such positions.

DATES: FHFA decommissioned the system, effective March 30, 2023. This proposed action will be effective without further notice on June 16, 2025, unless otherwise revised pursuant to comments received. Comments must be received on our before July 16, 2025. FHFA will publish a new notice if the effective date is delayed for the Agency to review the comments or if changes are made based on comments received.

ADDRESSES: Submit comments to FHFA, identified by “No. 2025-N-5,” using any one of the following methods:

• Agency Website: https://www.fhfa.gov/regulation/federal-register?comments=open.

• Federal eRulemaking Portal: https://www.regulations.gov. Follow the instructions for submitting comments. If you submit your comments to the Federal eRulemaking Portal, please also send it by email to FHFA at RegComments@fhfa.gov to ensure timely receipt by FHFA. Please include “Comments/No. 2025-N-5” in the subject line of the message.

• Hand Delivered/Courier: The hand delivery address is: Clinton Jones, General Counsel, Attention: Comments/No. 2025-N-5, Federal Housing Finance Agency, 400 Seventh Street SW, Washington, DC 20219. The package should be delivered to the Seventh Street entrance Guard Desk, First Floor, on business days between 9 a.m. and 5 p.m., EST.

• U.S. Mail, United Parcel Service, Federal Express, or Other Mail Service: The mailing address for comments is: Clinton Jones, General Counsel, Attention: Comments/No. 2025-N-5, Federal Housing Finance Agency, 400 Seventh Street SW, Washington, DC 20219. Please note that all mail sent to FHFA via the U.S. Postal Service is routed through a national irradiation facility, a process that may delay delivery by approximately two weeks. For any time-sensitive correspondence, please plan accordingly.

See SUPPLEMENTARY INFORMATION for additional information on submission and posting of comments.

FOR FURTHER INFORMATION CONTACT: LaRima Coleman, Assistant General Counsel, privacy@fhfa.gov or (202) 649-3803; or Brent Burris, Senior Agency Official for Privacy, privacy@fhfa.gov or (202) 649-3803 (not toll-free numbers), Federal Housing Finance Agency, 400 Seventh Street SW, Washington, DC 20219. For TTY/TRS users with hearing and speech disabilities, dial 711 and ask to be connected to any of the contact numbers above.

SUPPLEMENTARY INFORMATION:

I. Comments

FHFA seeks public comments on the rescindment of the SORN identified in this notice and will take all comments into consideration. The Agency will post all public comments on the FHFA public website at https://www.fhfa.gov, except as described below. Commenters should submit only information that the commenter wishes to make available publicly. FHFA may post only a single representative example of identical or substantially identical comments, and in such cases will generally identify the number of identical or substantially identical comments represented by the posted example. FHFA may, in its discretion, redact or refrain from posting all or any portion of any comment that contains content that is obscene, vulgar, profane, or threatens harm. All comments, including those that are redacted or not posted, will be retained in their original form in FHFA's internal file and considered as required by all applicable laws. Commenters that would like FHFA to consider any portion of their comment exempt from disclosure on the basis that it contains trade secrets, or financial, confidential or proprietary data or information, should follow the procedures in section IV.D. of FHFA's Policy on Communications with Outside Parties in Connection with FHFA Rulemakings, see https://www.fhfa.gov/sites/default/files/documents/Ex-Parte-Communications-Public-Policy_3-5-19.pdf. FHFA cannot guarantee that such data or information, or the identity of the commenter, will remain confidential if disclosure is sought pursuant to an applicable statute or regulation. See 12 CFR 1202.8, 12 CFR 1214.2, and the FHFA FOIA Reference Guide at https://www.fhfa.gov/about/foia-reference-guide for additional information.

II. Rescinded System of Records

FHFA proposes to rescind FHFA-25, Applicant Tracking System, because the third-party operated system of records described in FHFA-25 is no longer maintained by the Agency and has been decommissioned as of March 30, 2023. The remaining records that are covered in SORN FHFA-25 are not regularly used by FHFA for any purpose, are not retrievable by a personal identifier, and therefore are not a Privacy Act system of records. The remaining records covered by SORN FHFA-25 are maintained on FHFA's network and will be retained and destroyed in accordance with the Agency's records retention schedule. Eliminating this SORN will have no adverse impact on individuals, as FHFA has transitioned all job postings and applicant management to USA Staffing, which is covered by the Government-wide SORN OPM/GOVT-1, General Personnel Records.

For the reasons explained immediately above, the following system of records is rescinded:

SYSTEM NAME AND NUMBER:

Applicant Tracking System, FHFA-25.

HISTORY:

The system of records was last published in full in the Federal Register at 82 FR 52902 (Nov. 15, 2017).

Clinton Jones,
General Counsel, Federal Housing Finance Agency.

[FR Doc. 2025-10893 Filed 6-13-25; 8:45 am]

BILLING CODE 8070-01-P